DEPARTMENT OF THE INTERIOR

Bureau of Indian Affairs

[156A2100DD/AAKC001030/A0A501010.999900.253G]

Advisory Board for Exceptional Children

AGENCY: Bureau of Indian Affairs, Interior.

ACTION: Notice of meeting.

SUMMARY: The Bureau of Indian Education (BIE) is announcing that the Advisory Board for Exceptional Children (Advisory Board) will hold its next meeting in Washington, DC. The purpose of the meeting is to meet the mandates of the Individuals with Disabilities Education Act of 2004 (IDEA) for Indian children with disabilities.

DATES: The Advisory Board will meet on Thursday, September 17, 2015, from 8:30 a.m. to 4:30 p.m. and Friday, September 18, 2015, from 8:30 a.m. to 4:30 p.m. Eastern Time. Orientation for new members will be held Wednesday, September 16, 2015, from 9:00 a.m. to 4:00 p.m. Eastern Time.

ADDRESSES: The meetings on Wednesday, September 16, 2015, Thursday, September 17, 2015, and Friday, September 18, 2015, will be held at 1951 Constitution Avenue NW., Room 303-304, Washington, DC 20240; telephone number (202) 208-6123.

FOR FURTHER INFORMATION CONTACT: Ms. Sue Bement, Designated Federal Officer, Bureau of Indian Education, Albuquerque Service Center, Division of Performance and Accountability, 1011 Indian School Road NW., Suite 332, Albuquerque, NM 87104; telephone number (505) 563-5274.

SUPPLEMENTARY INFORMATION: In accordance with the Federal Advisory Committee Act (5 U.S.C. app.), the BIE is announcing that the Advisory Board will hold its next meeting in Washington, DC. The Advisory Board was established under the Individuals with Disabilities Education Act of 2004 (20 U.S.C. 1400 et seq.) to advise the Secretary of the Interior, through the Assistant Secretary—Indian Affairs, on the needs of Indian children with disabilities. The meetings are open to the public.

The following items will be on the agenda:

• Introduction of Advisory Board members

• Announcement of Chair Person

• Report from Gloria Yepa, Supervisory Education Specialist, BIE, Division of Performance and Accountability

• Report from BIE Director's Office

• Advisory Board work on Priorities for 2015

• Public Comment (via conference call, September 18, 2015 meeting only *)

• BIE Advisory Board-Advice and Recommendations

* During the September 18, 2015 meeting, time has been set aside for public comment via conference call from 1:30-2:00 p.m. Eastern Time. The call-in information is: Conference Number 1 (888) 417-0376, Passcode 1509140.

Dated: August 12, 2015.
Kevin K. Washburn,
Assistant Secretary—Indian Affairs.

[FR Doc. 2015-20244 Filed 8-14-15; 8:45 am]

BILLING CODE 4337-15-P